DEPARTMENT OF THE INTERIOR

Bureau of Land Management

[BLM_ID_FRN_MO4500175813]

Notice of Intent To Prepare an Environmental Impact Statement for the Caldwell Canyon Revised Mine and Reclamation Plan, Caribou County, Idaho

AGENCY: Bureau of Land Management, Interior.

ACTION: Notice of intent.

SUMMARY: In compliance with the National Environmental Policy Act of 1969, as amended (NEPA), and the Federal Land Policy and Management Act of 1976, as amended, the Bureau of Land Management (BLM) Idaho Falls District intends to prepare an Environmental Impact Statement (EIS) to consider the effects of P4 Production, LLC's (P4 Production) Caldwell Canyon Revised Mine and Reclamation Plan (RMRP) in Caribou County, Idaho. This notice announces the beginning of the scoping process to solicit public comments and identify issues and alternatives.

DATES: This notice initiates the public scoping process for the EIS. The BLM requests that the public submit comments concerning the scope of the analysis, potential alternatives, and identification of relevant information and studies by December 22, 2023. In order to be considered during the preparation of the Draft EIS, please ensure your comments are received prior to the close of the 30-day scoping period or 15 days after the last public meeting, whichever is later. Additional information will be distributed through a press release, newspaper notice, BLM's ePlanning website, and email to the mailing list.

ADDRESSES: You may submit comments related to the Caldwell Canyon RMRP by any of the following methods:

• Website: https://eplanning.blm.gov/eplanning-ui/project/2026858/510.

• Email: BLM_ID_CaldwellRevisedMRP_EIS@blm.gov.

• Fax: (208) 478-6376.

• Mail: Caldwell Canyon Mine EIS, C/O Stantec Consulting Services Inc., 2890 East Cottonwood Parkway, Suite 300, Salt Lake City, UT 84121.

Documents pertinent to this proposal may be examined online at https://eplanning.blm.gov/eplanning-ui/project/2026858/510 and at the BLM Pocatello Field Office.

FOR FURTHER INFORMATION CONTACT: Barry Myers, project manager, telephone (208) 559-3662; address 4350 Cliffs Drive, Pocatello, ID 83204; email bmyers@blm.gov. Contact Mr. Myers to have your name added to our mailing list. Individuals in the United States who are deaf, deafblind, hard of hearing, or have a speech disability may dial 711 (TTY, TDD, or TeleBraille) to access telecommunications relay services for contacting Mr. Myers. Individuals outside the United States should use the relay services offered within their country to make international calls to the point-of-contact in the United States.

SUPPLEMENTARY INFORMATION: Following the preparation of a Final EIS, the Caldwell Canyon Mine and Reclamation project was approved in a 2019 Record of Decision (ROD). Since that approval in 2019 and continuing through May 2023, P4 Production developed and constructed various components of the original project including a service road, haul roads, various utility lines, loadout facilities, and earthwork to prepare for ore removal.

In June 2023, as a result of legal action challenging the BLM's decision and analysis, the Final EIS and ROD were vacated by the United States District Court for the District of Idaho (Case No. 4:21-cv-00182-BLM). As a result of this vacatur, P4 Production submitted a new RMRP, which the BLM will analyze under NEPA. The RMRP proposes modifying existing lease boundaries, developing two new open mine pits, constructing haul and access roads, installing various utility lines, and constructing water management features, monitoring wells, and shop and office facilities (the Project).

Purpose and Need for the Proposed Action

The purpose of the Project is for the BLM to evaluate and respond to the RMRP submitted for the recovery of phosphate ore and to modify leases, in accordance with the Mineral Leasing Act of 1920. P4 Production has certain rights and privileges to recover phosphate from their leases, including the exploration, mining, and disposal of the phosphate or phosphate rock, subject to applicable requirements. The need for the Project is to develop the phosphate resources, using an economically viable method, in accordance with federal laws and regulations governing federal mineral leases, consistent with applicable law.

Preliminary Proposed Action and Alternatives

P4 Production's RMRP proposes to mine phosphate ore in Caribou County, Idaho, from three existing federal phosphate leases by constructing two open pits, constructing haul and access roads, installing various utility lines, and constructing water management features, monitoring wells, and shop and office facilities, while implementing environmental protection measures and reclamation.

The Project would create two open pits, portions of which extend beyond the existing federal lease boundaries. To accommodate those portions of the pits that extend outside the current federal leases, P4 Production proposes to expand their leases in accordance with 43 CFR subpart 3510.

The mining and the support facilities would encompass approximately 1,830 acres. The expected mine life would be approximately 40 years. Reclamation would be concurrent with mining and is scheduled to conclude two years after mining ceases.

In addition to the No Action Alternative (not approving the RMRP and lease modifications) and the Proposed Action, other possible alternatives may include a new proposed haul and access road and utility corridor that avoid federal surface as much as possible, and alternatives that address the sage-grouse issues identified by the Court. The BLM welcomes comments on all preliminary alternatives, as well as suggestions for additional alternatives.

Summary of Expected Impacts

The BLM expects mining and hauling operations to: change groundwater and surface water quantity and quality within regulatory limits; remove and change the structure and composition of vegetation, including species important to Native American Tribes; disturb wetlands and riparian habitat; modify wildlife habitat, including sage-grouse habitat; change scenery; disturb soil; permanently remove mineral resources; create air and fugitive dust emissions; extend economic activity such as employment and the continued operation of an existing elemental phosphorous processing plant; support businesses and generate tax revenue; and reduce livestock grazing.

Anticipated Permits and Authorizations

The BLM anticipates that the following permits and approvals may be required for the Project:

• BLM; MRP approval or modification of approved MRP; 43 CFR 3590.2(a), 3592.1(a)

• BLM; Lease Modification/Fringe Lease; 43 CFR 3510

• BLM; Right-of-way; 90 Statute 2776; 43 U.S. Code (U.S.C.) 1761

• BLM; Phosphate Use Permit; 43 CFR 3501.10, 43 CFR 3516

• High Explosives Permit; 18 U.S.C. 40; 27 CFR 555

• Idaho Department of Environmental Quality; Point of Compliance under the Idaho Groundwater Quality Rule; IDAPA 58.01.11.401

• Idaho Department of Environmental Quality; Certification of Water Quality (Clean Water Act, Section 401); IDAPA 39-101, et seq.; Idaho Code Parts 39-3601, et seq.

• Idaho Department of Water Resources; Water Rights; Idaho Code Parts 42-201, et seq.; IDAPA 37.03.08, Water Appropriation Rules and 37.03.11 Conjunctive Management of Surface and Ground Water

• Idaho Department of Environmental Quality; Stormwater Pollution Prevention Plan, Idaho Pollutant Discharge Elimination System; (IDAPA 58.01.25)

• USACE; Section 404 Permit—required if surface disturbance and placement of fill is more than 0.5 acres of wetlands and 500 feet of stream channels; Clean Water Act [Title 33 U.S.C. 1344, Section 404(a)]

• Idaho Department of Water Resources; Stream Channel Alteration Permit; IDAPA 42-3801

• Idaho Department of Environmental Quality; Air Quality Permit to Construct; IDAPA 58.01.01

• Idaho Department of Lands; Reclamation Plan approval and modification of approved Reclamation Plan; IDAPA 20.03.02.010, 20.03.02.120, and 20.03.02.140

• Caribou County; Conditional Use Permit for facilities within an approved land use; Caribou County Zoning Ordinance, Chapter 13.

Schedule for the Decision-Making Process

The BLM will provide additional opportunities for public participation consistent with the NEPA process, including a 45-day comment period on the Draft EIS. The Draft EIS is anticipated to be available for public review in summer 2024 and the Final EIS is anticipated to be released in December 2024, with a Record of Decision no sooner than 30 days after the release of the Final EIS.

Public Scoping Process

This notice of intent initiates the scoping period. The BLM will be holding a virtual public scoping meeting. The specific date and time of the virtual meeting, including information on how to register, will be announced in advance via press release, newspaper notice, the ePlanning project page, and email.

Cooperating Agencies

The Idaho Department of Environmental Quality, U.S. Army Corps of Engineers, Idaho Department of Lands, and Idaho Governor's Office of Energy and Minerals are Cooperating Agencies.

Responsible Official

Idaho Falls District Manager Mary D'Aversa is the BLM responsible official.

Nature of Decision To Be Made

The BLM Idaho Falls District Manager will decide whether and under what conditions to approve land use authorizations on BLM-managed public land and the RMRP on leased lands, and to recommend the approval or disapproval of proposed lease modifications to the BLM Idaho State Office Branch Chief for Minerals, Land Tenure, and Water Rights. The decision and recommendation will be documented in a ROD.

Additional Information

The BLM will identify, analyze, and consider mitigation to address the reasonably foreseeable impacts to resources from the Proposed Action and all analyzed reasonable alternatives and, in accordance with 40 CFR 1502.14(e), include appropriate mitigation measures not already included in the Proposed Action or Action Alternative(s). Mitigation may include avoidance, minimization, rectification, reduction or elimination over time, and compensation, and it may be considered at multiple scales, including the landscape scale.

The BLM will utilize and coordinate the NEPA process to help support compliance with applicable procedural requirements under the Endangered Species Act (16 U.S.C. 1536) and Section 106 of the National Historic Preservation Act (54 U.S.C. 306108) as provided in 36 CFR 800.2(d)(3), including public involvement requirements of Section 106. Information about historic and cultural resources and threatened and endangered species within the area potentially affected by the Project will assist the BLM in identifying and evaluating impacts to such resources.

The BLM will consult with Indian Tribal Nations on a government-to-government basis in accordance with Executive Order 13175, BLM MS 1780, and other Departmental policies. The BLM will send invites to potentially affected Tribal Nations prior to consultations. Tribal concerns, including impacts on Indian trust assets and potential impacts to cultural resources, will be given due consideration. Federal, State, and local agencies, along with Indian Tribal Nations and other stakeholders that may be interested in or affected by the proposed Project that the BLM is evaluating, are invited to participate in the scoping process and, if eligible, may request or be requested by the BLM to participate in the development of the environmental analysis as a Cooperating Agency. The BLM will also provide additional opportunities for government-to-government consultation at other times during the NEPA process.

Before including your address, phone number, email address, or other personal identifying information in your comment, you should be aware that your entire comment—including your personal identifying information—may be made publicly available at any time. While you may ask us in your comment to withhold your personal identifying information from public review, we cannot guarantee that we will be able to do so.

(Authority: 40 CFR 1501.9)

Mary D'Aversa,
District Manager, Idaho Falls District.

[FR Doc. 2023-25756 Filed 11-21-23; 8:45 am]

BILLING CODE 4331-19-P